DEPARTMENT OF ENERGY

Advance Notice of Intent To Prepare an Environmental Impact Statement for the Global Nuclear Energy Partnership Technology Demonstration Program

AGENCY: Department of Energy.

ACTION: Advance notice of intent.

SUMMARY: The U.S. Department of Energy (DOE) is providing this Advance Notice of Intent (ANOI) to prepare an Environmental Impact Statement (EIS) pursuant to the National Environmental Policy Act (NEPA) for the Global Nuclear Energy Partnership (GNEP) Technology Demonstration Program. The GNEP Technology Demonstration Program would demonstrate certain technologies that could change the way spent nuclear fuel from commercial light-water nuclear power reactors is managed. This EIS will inform DOE officials and the public of the potential environmental impacts associated with the proposed action, which is to demonstrate U.S. capability to safely recycle spent nuclear fuel using proliferation-resistant separation processes and the conversion of transuranics into shorter-lived radioisotopes.

The proposed action includes three key elements that would comprise a proliferation-resistant closed fuel cycle: (1) The demonstration of separation processes in which usable and waste materials that are found in spent nuclear fuel are separated; (2) the demonstration of the conversion of transuranics; and (3) the demonstration of an advanced fuel fabrication process.

The EIS will evaluate all reasonable alternative technologies and locations for the key elements of the proposed GNEP Technology Demonstration Program. New facilities and modifications to existing facilities might be required for the Technology Demonstration Program. The EIS will address siting, construction or modification, and operation of these facilities. DOE is issuing this ANOI, pursuant to its NEPA regulations at 10 CFR 1021.311(b), to inform and request early comments from Federal agencies, state and local governments, Native American tribes, industry, other organizations, and members of the public regarding the proposed action, the reasonable alternatives, and the potential environmental impacts.

DATES: DOE invites comments on this ANOI through May 8, 2006. DOE will consider comments received after May 8, 2006 to the extent practicable. DOE intends to issue a Notice of Intent (NOI) for the EIS later this year. After the NOI is issued, DOE will conduct public scoping meetings to assist in further defining the scope of the EIS and to identify significant issues to be addressed. The dates and locations of scoping meetings will be announced in the NOI, subsequent Federal Register notices (as needed), and in local media.

ADDRESSES: Please direct comments, suggestions, or relevant information on the planned EIS and questions concerning the proposed action to: Timothy A. Frazier, NEPA Document Manager, Office of Nuclear Energy, Science and Technology, U.S. Department of Energy, 1000 Independence Avenue, SW., Washington, DC 20585-0119, Telephone: 866-645-7803, Fax: 866-645-7807, E-mail to: GNEPTechDemo@nuclear.energy.gov.

FOR FURTHER INFORMATION CONTACT: To request further information about the EIS or to be placed on the EIS distribution list, use any of the methods listed under ADDRESSES above. Supplementary information on GNEP and the proposed GNEP Technology Demonstration Program may be found at http://www.gnep.energy.gov.

For general information concerning the DOE NEPA process, contact: Carol Borgstrom, Director, Office of NEPA Policy and Compliance (EH-42), U.S. Department of Energy, 1000 Independence Avenue, SW., Washington, DC 20585-0119; telephone: 202-586-4600, or leave a message at 1-800-472-2756; fax: 202-586-7031; or send an e-mail to askNEPA@eh.doe.gov.

This ANOI will be available on the Internet at http://www.eh.doe.gov/nepa and http://www.gnep.energy.gov.

SUPPLEMENTARY INFORMATION:

Background

As part of President Bush's Advanced Energy Initiative, DOE has launched a new initiative, the Global Nuclear Energy Partnership (GNEP). The broad goals of GNEP are to: (1) Reduce the United States' dependence on foreign sources of fossil fuels and encourage economic growth, while meeting increasing demand for electricity without emitting air pollution and greenhouse gases; (2) recycle nuclear fuel using new proliferation-resistant technologies to recover more energy and reduce the volume of waste; (3) encourage prosperity growth and clean development around the world; and (4) utilize the latest technologies to reduce the risk of nuclear proliferation worldwide.

The proposed GNEP Technology Demonstration Program would involve the development of technologies to promote GNEP's goals. The GNEP Technology Demonstration Program would demonstrate technologies needed to implement a closed fuel cycle that enables recycling and consumption of spent nuclear fuel in a proliferation-resistant manner. While DOE has had some success at bench-scale testing of these technologies, it has not yet proven that these technologies will be feasible in demonstration-scale facilities.

The proposed GNEP Technology Demonstration Program includes three major projects that would be conducted in new or existing facilities. These projects would demonstrate: (1) Proliferation-resistant processes that would separate the usable elements in commercial spent nuclear fuel from its waste elements; (2) the conversion of transuranics into shorter-lived radioisotopes; and (3) operation of an advanced fuel fabrication facility. The GNEP Technology Demonstration Program EIS will address siting, construction or modification, and operation of these demonstration-scale facilities. (Decontamination and decommissioning of these facilities will be addressed in one or more future NEPA analyses.)

In addition, DOE anticipates preparing a separate NEPA analysis at a later date that would address the environmental impacts of potential future actions to encourage the commercial-scale adoption of these technologies for the management of spent nuclear fuel from commercial nuclear power reactors, as well as alternatives. At that time, DOE anticipates preparing a programmatic EIS that would address the potential environmental consequences of the widespread deployment of proliferation-resistant spent nuclear fuel separation technologies, technologies that consume transuranics while extracting their energy, and fuel fabrication technologies, including those technologies that are the subject of the Technology Demonstration Program.

As discussed above, the GNEP Technology Demonstration Program includes three major projects.

1. Demonstration of an Advanced Separation Process

Under the GNEP Technology Demonstration Program, DOE would demonstrate the capability to safely recycle spent nuclear fuel from commercial light-water nuclear power reactors using proliferation-resistant separation processes. In support of this effort, DOE would conduct demonstration-scale testing of a process that would separate the usable elements in spent commercial nuclear fuel from its waste elements.

Spent nuclear fuel contains uranium, transuranics (plutonium and other long-lived radioactive material), and fission products. The fission products are waste and make up less than five percent of the used fuel. The buildup of the fission products inhibits the nuclear fission reaction, so used fuel must be removed from a nuclear power plant. In order to consume transuranics and uranium, while recovering their energy content, the transuranics and uranium would be separated from the fission products and then fabricated into new fuel.

The GNEP Technology Demonstration Program would use advanced separation processes (such as, but not necessarily limited to, Uranium Extraction Plus, or UREX+). As discussed below, the products of these advanced separation processes can be used in a facility such as a fast reactor that would consume transuranics to produce energy.

2. Demonstration of the Conversion of Transuranics

DOE would demonstrate the destruction of transuranics separated from spent nuclear fuel from commercial nuclear power plants. To destroy the transuranics, DOE would take advantage of high-energy neutrons to fission, or split apart, long-lived transuranics and transmute, or convert, them into shorter-lived radioisotopes. DOE will consider a facility such as, but not necessarily limited to, a fast reactor as a source of high-energy neutrons. As transuranics are consumed, significant energy is released and can be converted into electricity, thereby producing useful energy from material that would otherwise be waste.

3. Demonstration of a Proliferation-Resistant Fuel Cycle and Advanced Fuel Fabrication

DOE would demonstrate the fabrication, testing, and qualification of advanced fuel forms in a multi-hot cell, multi-purpose research, development, and demonstration laboratory that can serve fuel cycle testing needs. The facility would use modular, flexible construction technologies with the near-term objective to fabricate and qualify fuels to be used in the facility for the conversion of transuranics.

Purpose and Need for Action

The purpose of the GNEP Technology Demonstration Program is to demonstrate U.S. capability to safely recycle spent nuclear fuel using proliferation-resistant separation processes and the conversion of transuranics into shorter-lived radioisotopes. DOE needs to identify and demonstrate technologies and identify the locations where those technologies would be demonstrated.

Potential Range of Alternatives

As part of the NEPA process, DOE will consider and evaluate all reasonable alternatives, including those identified in response to the ANOI, NOI, and during the public scoping process. DOE will also evaluate a No Action alternative.

Invitation To Comment

DOE invites Federal agencies, state and local governments, Native American tribes, industry, other organizations, and members of the public to provide comments on the proposed scope, alternatives (both technology and siting), and environmental issues to be analyzed in the forthcoming EIS for the GNEP Technology Demonstration Program. DOE will consider all such comments and other relevant information in developing an NOI. Comments on this ANOI should be submitted as described under DATES and ADDRESSES above.

Potential Environmental Issues for Analysis

DOE has tentatively identified the following environmental issues for analysis in the GNEP Technology Demonstration Program EIS. The list is presented to facilitate early comment on the scope of the EIS; it is not intended to be comprehensive nor to predetermine the alternatives to be analyzed or their potential impacts.

• Potential impacts to the general population and workers from radiological and nonradiological releases.

• Potential impacts of emissions on air and water quality.

• Potential impacts on flora and fauna of a region.

• Potential transportation impacts from the shipment of radioactive materials and waste.

• Potential impacts from postulated accidents.

• Potential disproportionately high and adverse effects on low-income and minority populations (environmental justice).

• Potential Native American concerns.

• Short-term and long-term land use impacts.

• Compliance with applicable Federal and state regulations.

• Long-term health and environmental impacts.

• Long-term site suitability.

NEPA Process

DOE plans to publish the NOI for the proposed GNEP Technology Demonstration Program EIS in the Federal Register later this year. The NOI will identify the technologies and sites that DOE proposes to evaluate as reasonable alternatives in the EIS. Following the publication of the NOI, there will be a 60-day public scoping period. Subsequently, DOE will announce the availability of the Draft EIS in the Federal Register and other media outlets. Federal agencies, state and local governments, Native American tribes, industry, other organizations, and members of the public will have an opportunity to submit comments. These comments will be considered and addressed in the Final EIS. DOE will issue a Record of Decision(s) no sooner than 30 days after publication of the Environmental Protection Agency's Notice of Availability of the Final EIS. DOE might announce its decision to implement all three projects in a single Record of Decision or in separate Records of Decision.

Issued in Washington, DC, on March 16, 2006.
C. Russell H. Shearer,
Acting Assistant Secretary for Environment, Safety and Health.

[FR Doc. E6-4162 Filed 3-21-06; 8:45 am]

BILLING CODE 6450-01-P